NATIONAL AERONAUTICS AND SPACE ADMINISTRATION

[Notice: (18-093)]

NASA Advisory Council; STEM Engagement Committee; Meeting

AGENCY: National Aeronautics and Space Administration.

ACTION: Notice of meeting.

SUMMARY: In accordance with the Federal Advisory Committee Act, as amended, the National Aeronautics and Space Administration (NASA) announces a meeting of the Science, Technology, Engineering and Mathematics (STEM) Engagement Committee of the NASA Advisory Council (NAC). This Committee reports to the NAC.

DATES: Tuesday, December 4, 2018, 12:30 p.m. to 5:00 p.m., Eastern Time.

ADDRESSES: NASA Headquarters, Room 4U25, 300 E Street SW, Washington, DC 20546.

FOR FURTHER INFORMATION CONTACT: Dr. Beverly Girten, Designated Federal Officer, Office of STEM Engagement, NASA Headquarters, Washington, DC 20546, (202) 358-0212, or beverly.e.girten@nasa.gov.

SUPPLEMENTARY INFORMATION: The meeting will be open to the public to the capacity of the room. This meeting will also be available telephonically and by WebEx. You must use a touch-tone phone to participate in this meeting. Any interested person may dial the toll-free access number 1-844-467-6272 or toll access number 1-720-259-6462, passcode 634012, followed by the # sign, to participate in this meeting by telephone. To join via WebEx on December 4, the link is https://nasaenterprise.webex.com/, the meeting number is 905 805 195 and the password is Advisory2018$ (case sensitive). Note: If dialing in, please “mute” your telephone. The agenda for the meeting will include the following:

—Opening Remarks by Chair

—STEM Education Advisory Panel Update

—Committee on STEM 5 Year Strategic Plan Overview

—STEM Engagement Update

—Space STEM Forum Summary

—Performance and Evaluation Update

—Discussion on Recommendations and Findings

—Other Related Topics

Attendees will be required to sign a register and to comply with NASA security requirements including the presentation of a valid picture ID before receiving access to NASA Headquarters. Foreign nationals attending this meeting will be required to provide a copy of their passport and visa in addition to providing the following information no less than 10 working days prior to the meeting: Full name; gender; date/place of birth; citizenship; visa information (number, type, expiration date); passport information (number, country, expiration date); employer/affiliation information (name of institution, address, country, telephone); title/position of attendee; and home address to Dr. Beverly Girten via email at beverly.e.girten@nasa.gov or by telephone at (202) 358-0212. To expedite admittance, U.S. citizens and Permanent Residents (green card holders) are requested to submit their name and affiliation no less than 3 working days prior to the meeting to Dr. Beverly Girten. It is imperative that this meeting be held on this day to accommodate the scheduling priorities of the key participants.

Patricia Rausch,
Advisory Committee Management Officer, National Aeronautics and Space Administration.

[FR Doc. 2018-25208 Filed 11-19-18; 8:45 am]

BILLING CODE 4510-13-P